DEPARTMENT OF AGRICULTURE

Submission for OMB Review; Comment Request

March 10, 2000.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Washington, D.C. 20503 and to Departmental Clearance Office, USDA, OCIO, Mail Stop 7602, Washington, D.C. 20250-7602.

Comments regarding these information collections are best assured of having their full effect if received within 30 days of this notification. Copies of the submission(s) may be obtained by calling (202) 720-6746.

An agency may not conduct or sponsor a collection of information unless the collection of information displays a currently valid OMB control number and the agency informs potential persons who are to respond to the collection of information that such persons are not required to respond to the collection of information unless it displays a currently valid OMB control number.

Animal & Plant Health Inspection Service

Title: Animal Welfare.

OMB Control Number: 0579-0036.

Summary of Collection: The Laboratory Animal Welfare Act (AWA) (Public Law 890544) enacted August 24, 1966, required the U.S. Department of Agriculture, (USDA), to regulate the humane care and handling of dog, cats, guinea pigs, hamster, rabbits, and nonhuman primates. The legislation was the result of extensive demand by organized animal welfare groups and private citizens requesting a Federal law covering the transportation, care, and handling of laboratory animals. The Animal and Plant Health Inspection Service (APHIS), Regulatory Enforcement and Animal Care (AC) has the responsibility to enforce the Animal Welfare Act (7 U.S.C. 2131-2156) and the provisions of 9 CFR, Subchapter A, which implements the Animal Welfare Act. The purpose of the AWA is to insure that animal use in research facilities or exhibition purposes are provided humane care and treatment. To assure humane treatment of the animal during transportation in commerce and to protect the owners of animals from the theft of their animals by preventing the sale or use of animals which have been stolen. APHIS will collect information using several forms.

Need and Use of the Information: APHIS will collect health certificates, program of veterinary care, application for license and record of acquisition, disposition and transportation of animals. The information is used to ensure those dealers, exhibitors, research facilities, carriers, etc., are in compliance with the Animal Welfare Act and regulations and standards promulgated under this authority of the Act.

Description of Respondents: Business or other for-profit.

Number of Respondents: 8,231.

Frequency of Responses: Recordkeeping; reporting: On occasion; weekly; semi-annually; annually.

Total Burden Hours: 95,720.

Food and Nutrition Service

Title: Supplemental Form for Collecting Taxpayer Identifying Numbers.

OMB Control Number: 0584-NEW.

Summary of Collection: Section 3100(y) of the Debt Collection Improvement Act of 1996 (Public Law 104-134) requires all Federal agencies to obtain taxpayer identifying numbers (TINs) from all individuals and entities they do business with, and to furnish the TIN whenever a request for payment is submitted to Federal payment officials. A taxpayer identifying number can be either a Social Security Number or an Employer Identification Number. The Food and Nutrition Service will collect information using form FNS-711.

Need and Use of the Information: FNS will collect taxpayer identify numbers from individuals and entities receiving payments directly from the agency under any of the various nutrition and nutrition education programs. The information will be collected at the time of program application, and will only be collected once unless an entity renews its application or reapplies for program participation. If the information is not collected, FNS would be unable to include taxpayer identifying numbers with each certified request for payment.

Description of Respondents: Business or other for-profit; individuals or households; not-for-profit institutions.

Number of Respondents: 800.

Frequency of Responses: Reporting: On occasion; other (at time of app.).

Total Burden Hours: 66.

Food and Nutrition Service

Title: WIC Financial Management and Participation Report with Addendum.

OMB Control Number: 0584-0045.

Summary of Collection: The Women, Infants and Children Program (WIC) is authorized by Section 17 of the Child Nutrition Act (CNA) of 1966 (42 U.S.C. 1786), as amended. The Food and Nutrition Service (FNS) of USDA administers the WIC Program by awarding cash grants to State agencies. The State agencies award subgrants to local agencies to deliver program benefits and services to eligible participants. To streamline and reduce the reporting burden, the FNS-498 is revised and named FNS-798 with Addendum (FNS-798A) to allow a State agency's final monthly report for the report year (expanded to include closeout data) to serve as its closeout report in place of the FNS-227 with addendum (the FNS-227A). The addendum (FNS-798A) is needed by FNS in order to determine if each state agency has met its statutory nutrition education and breastfeeding promotion and support minimum expenditure requirements found in 42 U.S.C. 1786(h)(3).

Need and Use of the Information: FNS will use the information reported each month for program monitoring, funds allocation and management, budget projections, monitoring caseload, policy development, and responding to requests from Congress and the interested public. FNS also uses the data to determine if the State has met the 97 percent performance standard for food and 10 percent performance standard for NSA.

Description of Respondents: State, Local, or Tribal Government.

Number of Respondents: 88.

Frequency of Responses: Reporting: Monthly.

Total Burden Hours: 4,638.

Animal and Plant Health Inspection Service

Title: Importation of Animal & Poultry, Animal/Poultry Products, Certain Animal Embryos, Semen, and Zoological Animals.

OMB Control Number: 0579-0040.

Summary of Collection: Title 21 U.S.C. authorizes sections 111, 114, 114a, 114-1, 115, 120, 121, 125, 126, 134a, 134f, and 134g of 21 U.S.C. These authorities permit the Secretary to prevent, control and eliminate domestic diseases such as brucellosis and tuberculosis, as well as to take actions to prevent and to manage exotic diseases such as foot-and-mouth disease and rinderpest. Disease prevention is the most effective method for maintaining a healthy animal population and enhancing the Animal and Plant Health Inspection Service (APHIS) ability to compete in exporting animals and animal products. To fulfill this mission APHIS must collect pertinent information from those individuals who import animals and poultry, animal and poultry products, zoological animals, or animal germplasm into the United States. APHIS will collect information using several forms.

Need and Use of the Information: APHIS will collect information on the origin of the animal or product to be imported, the health status of the animal to be imported and whether the animal or product was temporarily offloaded in another country during its journey to the United States. This vital information helps APHIS to ensure that these imports pose a negligible risk of introducing exotic animal diseases into the United States. If the information was not collected it would cripple or destroy APHIS ability to protect the United States from exotic animal disease incursions.

Description of Respondents: Farms.

Number of Respondents: 107,849.

Frequency of Responses: Recordkeeping; reporting: On occasion.

Total burden hours: 64,200.

Natural Resource Conservation Service

Title: Agriculture and Urban Flood Damage Surveys.

OMB Control Number: 0578-0007.

Summary of Collection: The Watershed Protection and Flood Prevention Act (P.L. 83-566) authorizes the Secretary of Agriculture to provide technical and financial help to local organizations in planning and carrying out watershed improvements. Section 3 of the law directs the Secretary to determine whether benefits anticipated from the improvements will exceed cost. The Natural Resources Conservation Service (NRCS) has been delegated the responsibility to carry out the intent of the law. NRCS primary objective is to work in partnership with the American people to conserve and sustain our natural resources. NRCS provides technical and financial assistance to flood damaged communities to control flooding. NRCS personnel collect specific data about flood damages in order to assess the cost of floods to individuals, farms, communities, governments, and others who own or control property affected by floods. NRCS will collect information using surveys forms.

Needs and Use of The Information: NRCS will collect information on the types of damage, ownership patterns, tenure, number of properties affected, and the shape and slope of the flood plain. The information collected is used to determine damages incurred as a result of the flooding. Information is collected directly from the landowners on a voluntary basis. If the landowner is unavailable or unwilling to provide the information, NRCS will make visual estimates and use secondary data.

Description of Respondents: Individuals or households; business or other for-profit; not-for-profit institutions; farms; Federal Government; State, Local or Tribal Government.

Number of Respondents: 768.

Frequency of Responses: Reporting: On occasion.

Total Burden Hours: 936.

Food and Nutrition Service

Title: WIC Federal and State Agreement.

OMB Control Number: 0584-0332.

Summary of Collection: Section 17 of the Child Nutrition Act (CNA) of 1966, as amended, Form FNS-399 is the agreement between USDA and the State agency. The agreement empowers USDA to release funds to the State agency to operate the Women, Infants and Children (WIC) Program or the Farmers' Market Nutrition Program (FMNP). The Food and Nutrition Service (FNS) will collect information using form FNS-339.

Needs and Use of the Information: FNS will collect information to authorize payment of cash grants to State agencies, which operate the program locally through nonprofit organizations and must ensure coordination of the Program among the appropriate agencies and organizations. Each FMNP or WIC State agency desiring to administer the program shall annually enter into a written agreement with USDA for administration of the program in the jurisdiction of the State agency. If the information is not collected Federal funds cannot be provided to the State agency without a signed agreement.

Description of Respondents: State, Local, or Tribal Government.

Number of Respondents: 100.

Frequency of Responses: Recordkeeping; Reporting: Annually.

Total Burden Hours: 25.

William McAndrew,
Departmental Clearance Officer.

[FR Doc. 00-6539 Filed 3-15-00; 8:45 am]

BILLING CODE 3410-01-M